DEPARTMENT OF HEALTH AND HUMAN SERVICES

Administration on Aging

Agency Information Collection Activities; Submission for OMB Review; Comment Request; National Outcome Measures Surveys of Older Americans Act (OAA) Clients

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by April 22, 2002.

ADDRESSES: Submit written comments on the collection of information to the Office of Information and Regulatory Affairs, OMB, New Executive Office Bldg., 725 17th St. NW., rm. 10235, Washington, DC 20503, Attn: Allison Herron Eydt, Desk Officer for AoA.

FOR FURTHER INFORMATION CONTACT: David Bunoski, Office of Evaluation, Administration on Aging, Room 344G, Hubert Humphrey Building, 200 Independence Avenue, SW., Washington, DC 20201, (202) 260-0669.

SUPPLEMENTARY INFORMATION: In compliance with 44 U.S.C. 3507, AoA has submitted the following proposed collection of information to OMB for review and clearance.

Title of Information Collection: National Outcome Measures Surveys of Older Americans Act (OAA) Clients.

Type of Request: New information collection.

Use: Consumer assessment data will be collected in this initial set of surveys to initiate national program outcome assessment consistent with the requirements of the Government Performance and Results Act and the Older Americans Act.

Frequency: One-time.

Respondents: Elderly individuals who have received selected services under Title 3 of the Older Americans Act.

The Administration on Aging is submitting to the Office of Management and Budget for approval the National Outcome Measures Surveys of Older Americans Act (OAA) Clients, pursuant to requirements set forth by congressional statute. Through a contract with WESTAT, Inc., AoA will draw samples of individuals served through Area Agencies on Aging across the country for the purpose of obtaining OAA program service assessments from these individuals. The surveys will utilize information collection instruments and methods developed and tested by experts in the field of gerontology and by State and local entities that administer OAA programs. The surveys will include assessments from among the following service categories: nutrition, transportation, caregiver support, home-care, and information and assistance.

AoA estimates the burden of this collection of information as follows:

Estimated Number of Responses: 3,500.

Total Estimated Burden Hours: 2,000.

In the Federal Register of December 3, 2001, Volume 66, Number 3232, Page 60214, the agency requested comments on the proposed collection of information. Two comments from one commenter were received.

In a letter dated January 22, 2002, Patricia P. Pine, Ph.D., Director of the New York State Office for the Aging, made the following recommendations:

Comment: “We strongly recommend that the Performance Outcomes Measures project demonstrations funded by the AoA be extended for at least one more year. This would allow the participating state and area agencies on aging to collect more information and to address validity and reliability issues that have emerged or could emerge during the current demonstrations.”

Response: The Administration on Aging has not yet made a decision regarding additional funding for the current fiscal year, but is reviewing options that will include such funding.

Comment: “The proposed national survey instruments should retain only those measures that are relevant to each service category. This would minimize the burden on frail elderly clients. For example, the social functioning measure should be applied to clients who are in the relevant service populations, although this measure does not appear to be relevant to home-care clients.”

Response: As part of the normal review of performance measures each year, the nutrition workgroup has begun to address the issue of the pertinence of particular measures of social functioning to the population being surveyed. For example, we are revising the social functioning questionnaire for use with clients who receive home-delivered meals. While we will still ask several questions about individuals' frequency of social contacts, we will no longer ask other questions of home-bound individuals concerning their activities outside the house. When this task is completed, a modified social functioning questionnaire, appropriate for home-care clients, will be available.

Dated: March 13, 2002.
Josefina G. Carbonell,
Assistant Secretary for Aging.

[FR Doc. 02-6785 Filed 3-20-02; 8:45 am]

BILLING CODE 4154-01-P